CORPORATION FOR NATIONAL AND COMMUNITY SERVICE

Proposed Information Collection; Comment Request

AGENCY: Corporation for National and Community Service.

ACTION: Notice.

SUMMARY: The Corporation for National and Community Service (the Corporation), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its National Performance Measurement Assessment through a proposed survey and follow up interview of AmeriCorps State and National grantees and State Commissions. The purpose of this data collection is for CNCS to understand the tools and processes grantees and commissions have used to select, implement and report program performance using pilot measures developed for programs receiving AmeriCorps grants in 2010 and 2011. CNCS will use the results of this assessment to inform the ongoing adoption of AmeriCorps grantee measures as well as new performance measurement efforts within other CNCS programs. Completion of this information collection is considered completely voluntary and is not required to be considered for or to obtain grant funding support from any CNCS program.

Copies of the information collection request can be obtained by contacting the office listed in the addresses section of this notice.

DATES: Written comments must be submitted to the individual and office listed in the ADDRESSES section by May 15, 2012.

ADDRESSES: You may submit comments, identified by the title of the information collection activity, by any of the following methods:

(1) By mail sent to: Corporation for National and Community Service, Strategy Office, Attention Joscelyn Silsby, Research and Evaluation Specialist, Room 10906A; 1201 New York Avenue NW., Washington, DC 20525.

(2) By hand delivery or by courier to the Corporation's mailroom at Room 8100 at the mail address given in paragraph (1) above, between 9 a.m. and 4 p.m. Eastern Time, Monday through Friday, except Federal holidays.

(3) By fax to: (202) 202-606-3464, Attention: Joscelyn Silsby, Research and Evaluation Specialist.

(4) Electronically through www.regulations.gov. Individuals who use a telecommunications device for the deaf (TTY-TDD) may call 1-800-833-3722 between 8 a.m. and 8 p.m. Eastern Time, Monday through Friday.

FOR FURTHER INFORMATION CONTACT: Joscelyn Silsby, (202) 606-6772, or by email at jsilsby@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation for National and Community Service (CNCS) is seeking timely feedback from State and National AmeriCorps grantees and State Service Commissions regarding the National Performance Measures Pilot to help the agency (1) improve guidance materials and technical assistance regarding performance measurement and (2) effectively use the measures for internal management and external accountability.

In order to achieve its strategic objectives, CNCS must create effective services, products, and communications materials for program partners (sponsors and grantees) pursuant to its goals. Performance measures are imbedded in objectives under each of the goals of CNCS's 2011-2015 Strategic Plan.

The three-year National Performance Measures Pilot will be completed in FY 2012; in FY 2013 AmeriCorps will begin to implement a standard set of national grantee measures. AmeriCorps staff, state service commissions, and grantees have been preparing for this shift in performance measurement over the past three years.

When fully implemented, the national performance measures are intended to (1) focus AmeriCorps-funded programs on producing measurable outcomes and (2) make it possible to assess and report the overall impact of performance in key areas outlined in the Serve America Act. These areas include Disaster Services, Economic Opportunity, Education, Environmental Stewardship, Healthy Futures, and Veterans and Military Families.

Current Action

This is a new information collection request by the Corporation for National and Community Service. An online survey and follow-up interview will be conducted with two categories of respondents: (1) State service commissions, sponsored by State or Tribal governments, and (2) nonprofit organizations awarded AmeriCorps grants in 2010 and 2011. Data collection will occur among respondents at the commission or grantee organization who are responsible for the oversight and implementation of performance measurement and evaluation activities.

Grantees implementing programs through a state service commission are referenced in the instruments and sampling plan as “State Competitive” grantees or “subgrantees.” Multi-state grantees are referenced as “National Direct” grantees.

Type of Review: New.

Agency: Corporation for National and Community Service.

Title: National Performance Measurement Assessment.

OMB Number: New.

Agency Number: None.

Affected Public: State Service Commissions and Grantees in AmeriCorps State and National.

Total Respondents: 243.

Frequency: All possible respondents (n=243) will receive and be asked to complete the online survey. A randomly selected sub-set of 36 respondents will be asked to participate in follow-up interviews.

Average Time per Response: 42 minutes (279 total responses/196.5 total burden hours).

Burden Hours
Category of respondent | Number of respondents | Participation time (min) | Burden (hours)
State Service Commissions—survey | 51 | 30 | 25.5
State Service Commissions—follow-up interview | 12 | 45 | 9.0
Grantees—survey | 192 | 45 | 144.0
Grantees—follow-up interview | 24 | 45 | 18.0
Totals | 243 |  | 196.5 hours`

Estimated Total Burden Hours: 196.5 hours.

Total Burden Cost (capital/startup): $56,716.

Total Burden Cost (operating/maintenance): None.

Comments submitted in response to this notice will be summarized and/or included in the request for Office of Management and Budget approval of the information collection request; they will also become a matter of public record.

Dated: March 9, 2012.
John Kim,
Acting Chief Strategy Officer, Office of Strategy and Special Initiatives.

[FR Doc. 2012-6364 Filed 3-15-12; 8:45 am]

BILLING CODE 6050-$$-P